DEPARTMENT OF COMMERCE

International Trade Administration

Manufacturing Council

AGENCY: International Trade Administration, U.S. Department of Commerce.

ACTION: Notice of Reopening of the Application Period for Membership on the Manufacturing Council.

SUMMARY: On November 23, 2010, the Department of Commerce's International Trade Administration published a notice in the Federal Register (75 FR 71417) soliciting applications to fill one vacant position on the Manufacturing Council (Council). The November 23, 2010 notice provided that all applications must be received by the Office of Advisory Committees of the Department of Commerce by close of business on December 7, 2010. This notice reopens the application period in order to provide the public with an additional opportunity to submit applications. The eligibility and evaluation criteria for selection of a member to fill the vacant position contained in the November 23, 2010 notice shall continue to apply. The purpose of the Council is to advise the Secretary of Commerce on matters relating to the competitiveness of the U.S. manufacturing sector and to provide a forum for regular communication between Government and the manufacturing sector.

ADDRESSES: Please submit application information to Jennifer Pilat, Office of Advisory Committees, Manufacturing Council Executive Secretariat, U.S. Department of Commerce, Room 4043, 1401 Constitution Avenue, NW., Washington, DC 20230.

DATES: All applications must be received by the Office of Advisory Committees by close of business on January 14, 2010.

FOR FURTHER INFORMATION CONTACT: Jennifer Pilat, Manufacturing Council Executive Secretariat, Room 4043, 1401 Constitution Avenue, NW., Washington, DC 20230, telephone: 202-482-5896, e-mail: jennifer.pilat@trade.gov. Please visit the Manufacturing Council Web site at: http://www.manufacturing.gov/council/index.asp?dName=council.

SUPPLEMENTARY INFORMATION: The Office of Advisory Committees is reopening the application period for one vacant position on the Council for the current two year charter term to expire April 8, 2012. As the Department of Commerce did not receive any applications for this vacancy by the December 7th deadline, the Department is reopening the application period. The criteria and procedures for selecting the member contained in the November 23, 2010 notice continue to apply and are republished herein for convenience.

The member will be appointed to serve until the Council's charter expires on April 8, 2012. The member will be selected in accordance with applicable Department of Commerce guidelines based on his or her ability to advise the Secretary of Commerce on matters relating to the U.S. manufacturing sector, to act as a liaison among the stakeholders represented by the membership and to provide a forum for those stakeholders on current and emerging issues in the manufacturing sector. The Council's membership reflects the diversity of American manufacturing by representing a balanced cross-section of the U.S. manufacturing industry in terms of industry sectors, geographic locations, demographics, and company size, particularly seeking the representation of small- and medium-sized enterprises. Although applications from any manufacturing sector will be considered, based on the diversity of the manufacturing industry currently represented on the Council for this charter term, the Department particularly is encouraging applicants from the high-tech or bio-tech manufacturing sectors. Additional factors which may be considered in the selection of this Council member include the candidate's proven experience in promoting, developing and marketing programs in support of manufacturing industries, job creation in the manufacturing sector, or the candidate's proven abilities to manage manufacturing organizations.

Given the duties and objectives of the Council, the Department particularly seeks applicants who are active manufacturing executives (Chief Executive Officer, President, or a comparable level of responsibility) that are leaders within their local manufacturing communities and industries. Each Council member serves as the representative of a U.S. entity in the manufacturing sector. For the purposes of eligibility, a U.S. entity is defined as a firm incorporated in the United States (or an unincorporated firm with its principal place of business in the United States) that is controlled by U.S. citizens or by another U.S. entity. An entity is not a U.S. entity if 50 percent plus one share of its stock (if a corporation, or a similar ownership interest of an unincorporated entity) is controlled, directly or indirectly, by non-U.S. citizens or non-U.S. entities.

The appointment to the Council will be made by the Secretary of Commerce. All Council members serve at the discretion of the Secretary of Commerce. Council members serve in a representative capacity, representing the views and interests of their particular industry sector. Council members are not special government employees.

Council members receive no compensation for their participation in Council activities. Members participating in Council meetings and events are responsible for their travel, living and other personal expenses.

Meetings are held regularly and not less than annually, usually in Washington, DC. Members are required to attend a majority of the Council meetings. The current Council met initially on October 14, 2010 in Washington, DC. The next meeting is scheduled to take place in January 2011.

To be considered for membership, please provide the following:

1. Name and title of the individual requesting consideration.

2. A sponsor letter from the applicant on his or her entity's letterhead or, if the applicant is to represent an entity other than his or her employer, a letter from the entity to be represented, containing a brief statement of why the applicant should be considered for membership on the Council. This sponsor letter should also address the applicant's manufacturing-related experience, including any manufacturing trade policy experience.

3. The applicant's personal resume.

4. An affirmative statement that the applicant meets all eligibility criteria.

5. An affirmative statement that the applicant is not required to register as a foreign agent under the Foreign Agents Registration Act of 1938, as amended.

6. An affirmative statement that the applicant is not a federally registered lobbyist, and that the applicant understands that, if appointed, the applicant will not be allowed to continue to serve as a Council member if the applicant becomes a federally registered lobbyist.

7. Information regarding the control of the entity to be represented, including the governing structure and stock holdings as appropriate signifying compliance with the criteria set forth above.

8. The entity's size and ownership, product or service line and major markets in which the entity operates.

9. Please include all relevant contact information such as mailing address, fax, e-mail, fixed and mobile phone numbers and support staff information where relevant.

Dated: December 15, 2010.
Jennifer Pilat,
Executive Secretary, Manufacturing Council.

[FR Doc. 2010-31944 Filed 12-20-10; 8:45 am]

BILLING CODE 3510-DR-P